UNITED STATES INTERNATIONAL TRADE COMMISSION

[USITC SE-02-017]

Sunshine Act Meeting

AGENCY HOLDING THE MEETING: United States International Trade Commission.

TIME AND DATE: June 17, 2002 at 2 p.m.

PLACE: Room 101, 500 E Street SW., Washington, DC, 20436, Telephone: (202) 205-2000.

STATUS: Open to the public.

MATTERS TO BE CONSIDERED: 1. Agenda for future meeting: none.

2. Minutes.

3. Ratification List.

4. Inv. No. 731-TA-1010 (Preliminary)(Lawn and Garden Steel Fence Posts from China)—briefing and vote. (The Commission is currently scheduled to transmit it determination to the Secretary of Commerce on June 17, 2002; Commissioners' opinions are currently scheduled to be transmitted to the Secretary of Commerce on or before June 24, 2002.)

5. Inv. Nos. 731-TA-935-936 and 938-942 (Final)(Structural Steel Beams from China, Germany, Luxembourg, Russia, South Africa, Spain, and Taiwan)—briefing and vote. (The Commission is currently scheduled to transmit its determinations and Commissioners' opinions to the Secretary of Commerce on or before June 25, 2002.)

6. Outstanding action jackets: none.

In accordance with Commission policy, subject matter listed above, not disposed of at the scheduled meeting, may be carried over to the agenda of the following meeting.

Issued: June 7, 2002.
By order of the Commission:
Marilyn R. Abbott,
Secretary to the Commission.

[FR Doc. 02-14746 Filed 6-7-02; 11:56 am]

BILLING CODE 7020-02-P